DEPARTMENT OF COMMERCE

National Oceanic and Atmospheric Administration

RIN 0648-XB64

Marine Mammals; File No. 10019

AGENCY: National Marine Fisheries Service (NMFS), National Oceanic and Atmospheric Administration (NOAA), Commerce.

ACTION: Notice; issuance of permit.

SUMMARY: Notice is hereby given that Jonathon Millman, 268 Mast Road, Durham, New Hampshire 03824, has been issued a permit to conduct commercial/educational photography of pinnipeds in Maine.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

FOR FURTHER INFORMATION CONTACT: Jaclyn Daly or Tammy Adams, (301)713-2289.

SUPPLEMENTARY INFORMATION: On August 10, 2007, notice was published in the Federal Register (72 FR 45013) that a request for a commercial/educational photography permit to take harbor seals (Phoca vitulina) and gray seals (Halichoerus grypus) had been submitted by the above-named individual. The requested permit has been issued under the authority of the Marine Mammal Protection Act of 1972, as amended (16 U.S.C. 1361 et seq.) and the regulations governing the taking and importing of marine mammals (50 CFR part 216).

The permit authorizes Level B harassment of 200 harbor seals and 50 gray seals during one to two filming sessions around the Isle of Shoals, Maine. Filming will take place above and below water and footage obtained will be used for the New Hampshire Public Television's “Windows to the Wild” series. The permit expires on November 1, 2007.

In compliance with the National Environmental Policy Act of 1969 (42 U.S.C. 4321 et seq.), a final determination has been made that the activity proposed is categorically excluded from the requirement to prepare an environmental assessment or environmental impact statement.

Dated: September 24, 2007.
P. Michael Payne,
Chief, Permits, Conservation and Education Division, Office of Protected Resources, National Marine Fisheries Service.

[FR Doc. E7-19145 Filed 9-26-07; 8:45 am]

BILLING CODE 3510-22-S